DEPARTMENT OF ENERGY

Federal Energy Regulatory Commission

Notice of Intent to Prepare a Supplemental Environmental Impact Statement for the Proposed Millennium Phase I Project, Columbia Line A-5 Replacement Project, Empire Connector Project, Algonquin Ramapo Expansion Project, and Iroquois Marketaccess Project and Request for Comments on Environmental Issues

January 10, 2006.

In the matter of: Millennium Pipeline Company L.P., Columbia Gas Transmission Corporation, Empire Pipeline, Inc., Algonquin Gas Transmission LLC, Iroquois Gas Transmission System, L.P., Docket Nos. CP98-150-006 and -007, CP05-19-000, CP06-5-000, PF06-5-000, PF06-6-000.

The staff of the Federal Energy Regulatory Commission (FERC or Commission) will prepare a supplemental environmental impact statement (SEIS) that discusses the environmental impacts of Millennium Pipeline L.P.'s (Millennium) proposed Millennium Phase I Project (Phase I Project) which involves design and route changes to the pipeline facilities previously approved as part of the Millennium Pipeline Project ¹ and the related projects proposed by other pipeline companies. These related projects are: Columbia Gas Transmission Corporation's (Columbia) Line A-5 Replacement Project, Empire Pipeline, Inc.'s (Empire) Empire Connector Project, Algonquin Gas Transmission's (Algonquin) Ramapo Expansion Project, and Iroquois Gas Transmission System, L.P.'s MarketAccess Project. Together, these projects are referred to as the Northeast (NE)-07 Project.

¹ On September 19, 2002, the Commission issued an order approving construction of the Millennium Pipeline Project in Docket Nos. CP98-150 et al. On July 12, 2005, Millennium was granted approval of its request for an extension of time to file its implementation plan for the project and to complete construction since its amendment application was expected soon.

The SEIS will incorporate by reference the analyses completed in the Final EIS for the Millennium Pipeline Project and the environmental assessment (EA) issued for the Brookfield Project. It will address the impacts of the facility modifications including route changes proposed by Millennium for the Phase I Project and Columbia for the Line A-5 Replacement Project and the new facilities proposed by Empire, Algonquin, and Iroquois.

This notice announces the opening of the scoping period that will be used to gather environmental information from the public and interested agencies on the NE-07 Project. Please note that the scoping period will close on February 10, 2006. Details on how to submit comments are provided in the Public Participation section of this notice.

This notice is being sent to potentially affected landowners along the NE-07 Project route and within a half mile of the new and modified compressor stations; Federal, state, and local government agencies; elected officials; environmental and public interest groups; Native American tribes; and local libraries and newspapers.

With this notice, we ² are asking Federal, state, and local agencies with jurisdiction and/or special expertise with respect to environmental issues to cooperate with us in the preparation of the SEIS. These agencies may choose to participate once they have evaluated the proposal relative to their responsibilities. Agencies which would like to request cooperating status should follow the instructions for filing comments described later in this notice. We encourage government representatives to notify their constituents of this planned project and encourage them to comment on their areas of concern.

² “We,” “us,” and “our” refer to the environmental staff of the Office of Energy Projects.

Some affected landowners may be contacted by a project representative about the acquisition of an easement to construct, operate, and maintain the proposed pipeline. If so, the company should seek to negotiate a mutually acceptable agreement. In the event that the NE-07 Project is certificated by the Commission, that approval conveys the right of eminent domain for securing easements for the pipeline. Therefore, if easement negotiations fail to produce an agreement, the company could initiate condemnation proceedings in accordance with state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Background

In the Commission's September 19, 2002 Order, Millennium was authorized to construct and operate approximately 424 miles of pipeline (MPS 0 to 424) and related facilities, and to acquire certain pipeline facilities from Columbia in New York and Pennsylvania. These facilities (or the Authorized Pipeline) would be used to transport natural gas on an open-access basis from and interconnection with the pipeline facilities owned by TransCanada PipeLines Ltd at the United States-Canada border in Lake Erie to Mount Vernon, New York.

Millennium has indicated that based on market demand at this time it is now proposing its Phase I Project by which it would transport gas received from Empire via the proposed Empire Expansion Project at an interconnection in Corning, New York, and from other pipelines. It would transport gas for and deliver gas to existing Columbia and new Millennium transportation customers between this point and the Phase I Project terminus at the Ramapo M&R Station where it would interconnect with Algonquin's facilities. Algonquin would need to construct the proposed facilities to accommodate transportation downstream of the Ramapo M&R Station. Similarly, Iroquois would need to construct its proposed facilities to provide transportation downstream from an interconnection with Algonquin's facilities in Brookfield, Connecticut. Maps illustrating the proposed construction are in appendix 1.³

³ The appendices referenced in this notice are not being printed in the Federal Register. Copies are available on the Commission's Internet Web site (http://www.ferc.gov) at the “eLibrary” link or from the Commission's Public Reference and Files Maintenance Branch at 1-202-502-8371. For instructions on connecting to eLibrary refer to the Additional Information section of this notice.

Proposed NE-07 Project Facilities

Millennium's amendment applications would involve construction of Phase I facilities consisting of about 181.7 miles of 30-inch-diameter pipeline between milepost (MP) 190.6 to 376.6 in Steuben, Chemung, Tioga, Broome, Delaware, Sullivan, Orange, and Rockland Counties, New York. This is in lieu of the originally approved project involving the construction of 373.4 miles of 36-inch-diameter pipeline from the United States-Canada border in Lake Erie to the Ramapo Metering and Regulating (M&R) Station in Rockland County, New York; and about 50.6 miles of 24-inch-diameter pipeline from the Ramapo M&R Station to the pipeline terminus in Mount Vernon, New York. Millennium would also construct about 15,002 horsepower (hp) of compressor facilities next to Columbia's existing Corning Compressor Station (CS) within Columbia's property in Steuben County, New York. The Phase I Project would have a maximum allowable operating pressure (MAOP) of 1,200 pounds per square inch gauge (psig) rather than 1,440 psig of the original project. It would allow for the transportation and delivery of about 525,400 decatherms per day (Dth/d) of gas as opposed to the 714,000 Dth/d for the original project. The Phase I Project would include several route variations which Millennium proposes to use as the final route (these are identified below).

Columbia's Line A-5 Replacement Project ⁴ would consist of about 8.8 miles of 30-inch-diameter pipeline replacing 8- and 16-inch-diameter pipeline, modifications to three existing M&R stations, and related facilities all in Orange and Rockland Counties, New York. The pipeline replacement would occur between Columbia's Tuxedo/Central Hudson and Ramapo M&R Stations. These two M&R stations would be modified, as would a third, the Sloatsburg M&R Station, to accommodate the larger diameter pipeline. The Ramapo M&R Station would also be modified to allow bi-directional flow.

⁴ A Notice of Intent (NOI) to Prepare an Environmental Assessment and Request for comments on Environmental Issues for the Line A-5 Replacement Project was issued on December 6, 2004. On April 7, 2005, Columbia was informed that this project would be considered with the amendment to the Millennium Pipeline Project and Empire's project that were to be filed soon.

Empire's Empire Connector Project ⁵ would consist of about 80 miles of 24-inch-diameter pipeline extending from its existing pipeline in Victor, New York, to an interconnection with the Millennium Pipeline near Corning, New York; and about 22,000 hp of compression at a new compressor station on Empire's exiting pipeline in Oakfield, New York.

⁵ An NOI for the Empire Connector Project was issued on October 4, 2004.

Algonquin's Ramapo Expansion Project would consist of:

• Construction of about 4.8 miles of 42-inch-diameter pipeline replacing a segment of an existing 26-inch-diameter pipeline;

• Relocation of two mainline valves along the replaced pipeline;

• Modification of the crossover piping on-shore and west of Algonquin's Hudson River crossing in Rockland County, New York;

• Modification of facilities at the existing M&R 202, in Rockland County, New York;

• Installation of compressor modifications and upgrades to add about 8,400 hp of compression at the existing Stony Point CS in Rockland County, New York;

• Adding about 7,700 hp of compression and related facilities and buildings at the Hanover CS in Morris County, New Jersey;

• Adding about 18,010 hp of compression and related facilities and buildings at the existing Southeast CS in Putnam County, New York;

• Constructing a new M&R station in Brookfield, Fairfield County, Connecticut, at the existing Iroquois meter site (M&R #251); and

• Constructing the new Oxford CS which would have about 37,700 hp of compression and related facilities in the Town of Oxford, New Haven County, Connecticut.

Algonquin's 42-inch-diameter pipeline would have a MAOP of 850 psig.

Iroquois' MarketAccess Project would consist of construction of the Brookfield CS in Brookfield, Fairfield County, Connecticut, which was approved by the Commission in Docket No. CP02-31-000.⁶ This facility would be at MP 308.83 on Iroquois' mainline system. That project involved the construction of a 10,000 hp compressor station. Iroquois would be amending that certificate to allow for the modification of some of the compressor facilities and would also propose the addition of gas cooling facilities at its existing Dover CS in Duchess County, New York, at MP 283.11 of Iroquois mainline system.

⁶ On October 21, 2002, the Commission approved the construction of the Brookfield Project which included the construction of the Brookfield CS. On November 3, 2005, Iroquois received a letter approving its request for an extension of time to construct the facilities authorized in this docket to coincide with the analysis of the applications of Millennium et al.

The Ramapo Expansion Project and the MarketAccess Project are currently in the preliminary stages of design and at this time a formal application has not been filed with the Commission. For these projects, the Commission is initiating the National Environmental Policy Act (NEPA) review prior to receiving the formal application. This allows interested stakeholders to become involved early in the project planning and to identify and resolve issues before a formal application is filed with the FERC. Docket numbers (PF06-5-000 and PF06-6-000) have been established to place information filed by Algonquin and Iroquois and related documents issued or received by the Commission, into the public record.⁷ Once formal applications are filed with the FERC, new docket numbers will be established.

⁷ To view information in the dockets, follow the instructions for using the eLibrary link at the end of this notice.

Non-Jurisdictional Facilities

Millennium states that Orange and Rockland Utilities (O&R) would modify its distribution system near Line A-5 to insure that it has maximum flexibility to continue to receive gas from Line A-5 during the construction period. None of these modifications would connect directly the Millennium's facilities. O&R's modifications would be constructed under the jurisdiction of the New York State Public Service Commission (NYSPSC).

Land Requirements for Construction

Construction of the NE-07 Project would require both pipeline and aboveground construction. Land requirements for each applicant's project are provided separately.

Phase I Project

Typically, Millennium would use a nominal 75-foot-wide construction right-of-way and would require a 50-foot-wide permanent right-of-way centered over the pipeline. The construction right-of-way width would increase to 100 feet in agricultural areas and areas of rugged terrain; additional temporary workspaces may also be required on a site-specific basis. Between MPs 285.6 and 376.4, Millennium would install the new pipeline within the existing pipeline trench by the lift and lay method of construction (except in those areas where variations away from the existing right-of-way are proposed). Pipeline in other areas would be installed within either new right-of-way or adjacent to or overlapping existing pipeline or powerline rights-of-way.

Pursuant to environmental condition 45 of the September 19, 2002 Order, Millennium was required to work with New York State Electric and Gas (NYSEG) on the pipeline route along and within the existing NYSEG powerline right-of-way between MPs 232.2 and 243.5. This consultation has resulted in Millennium proposing pipeline realignments at three locations some of which are outside the required area of condition 45. These variations are: the NYSEG Chemung Variation between MPs 198.0 and 203.6, the NYSEG Tioga-Broome Variation between MPs 232.2 and 245.0, and the NYSEG Delaware Variation between MPS 284.4 and 284.9. The three variations are referred to collectively as the NYSEG Route Variation. It is proposed to maintain NYSEG's buffer distance (typically about 55 feet minimum) from the electric facilities. The variation moves the pipeline from the center of the powerline right-of-way and between the power poles to either the north or south side of the right-of-way as determined by terrain, environmental features, or landowner needs. The NYSEG Route Variation would require about 221.7 acres for construction and about 120.9 acres for operation.

Millennium now proposes to use a 7.1-mile-long segment of the existing Line A-5 Pipeline between MPs 340.5 and 347.7 rather than constructing across the Neversink River (MP 341.0). The Neversink River has federally endangered dwarf wedge mussel populations. This segment of the Line A-5 Pipeline is 24 inches in diameter except for a 1,278-foot-long segment at and near the Interstate 84 crossing where it is 10 inches in diameter. Other than the change in pipeline diameter, no other construction would be required within this 7.1-mile-long segment. Construction of this segment of 24-inch-diameter pipeline would require about 2.2 acres for construction assuming a nominal 75-foot-wide right-of-way and about 1.5 acres for operation. This change would reduce total project construction land requirements by about 65.2 acres compared to the original Millennium Pipeline Project.

The Warwick Isle Route Variation would be in the Town of Warwick between MPs 350.8 and 351.6. It is proposed due to a new housing development that was constructed since Millennium's certificate was issued. Warwick Isle Route Variation would avoid the development. It would require about 11.6 acres for construction and about 7.3 acres for operation.

The proposed compressor station would be constructed within the existing 60-acre Columbia Corning CS property. About 6.5 acres would be required permanently for the aboveground facility. An additional 6.0 acres would be required as temporary workspace for construction.

The estimated total construction right-of-way requirement for the Phase I Project is 2,169.9 acres. This total includes 242 acres for construction of the described new compressor station and the route variations. About 1,079.6 acres would be used as temporary workspace including about 138.9 acres for storage yards. The permanent right-of-way would require about 1,132.3 acres which includes about 135.7 acres of permanent requirement for the compressor station and the permanent right-of-way along the proposed route variations.

Line A-5 Replacement Project

Columbia's Line A-5 Replacement Project would require about 139.8 acres for construction based on a nominal 75-foot-wide construction right-of-way and including all temporary workspaces and staging areas. About 54.3 acres would be required for the 50-foot-wide permanent right-of-way. Most of the pipeline would be installed by the lift and lay method except in locations where the pipeline route would deviate from the Line A-5 right-of-way. Proposed facilities at the M&R stations would be installed within the existing facilities, but about 1.1 acres may be affected during construction at each location.

Empire Connector Project

Typically, pipeline construction would occur within a nominal 75-foot-wide right-of-way. The width of the construction right-of-way would increase to 100 feet in agricultural areas where segregated topsoil would be stored and in areas with rugged terrain which would require additional right-of-way width for tiered construction or for extra workspace for spoil storage or safety. Additional temporary workspaces may be required on a site-specific basis.

Pipeline construction would require about 841.5 acres of which about 473.3 acres would be included in the permanent right-of-way after construction. About 17.8 acres would be required for construction and operation of the proposed compressor station.

Ramapo Expansion Project

Algonquin's Ramapo Expansion Project would require a total of about 60.5 acres for pipeline construction. About 44.8 acres would be within Algonquin's existing permanent right-of-way. No new permanent right-of-way would be required for construction of the pipeline.

Construction of the compressor station additions would be within property owned by Algonquin. Work at the Hanover CS would require about 16.8 acres of temporary workspace and about 13.8 acres would be affected permanently. At the Stony Point CS, about 12.8 acres would be required for temporary workspace and about 15.6 acres would be required permanently. About 14.2 acres would be required temporarily and 9.9 acres would be required permanently at the Southeast CS. The new Oxford CS would require about 17.8 acres of temporary workspace and about 12.0 acres permanently. Temporary and permanent workspace would be required at M&R Station 202 and the new Brookfield M&R Station, but this information is being developed at this time. The work on the crossover piping on the west side of Algonquin's Hudson River crossing would have about 0.55 acre of both temporary and permanent requirements.

Market Access Project

The total land requirement for Iroquois' Market Access Project would be about 10.0 acres. The permanent land requirement at the Brookfield CS would be about 6.2 acres and an additional 1.1 acres would be required as temporary workspace. Construction of the cooler facilities at the Dover CS would require about 1.7 acres permanently and about 1.0 acres temporarily.

The EIS Process

NEPA requires the Commission to take into account the environmental impacts that could result from an action whenever it considers the issuance of a Certificate of Public Convenience and Necessity under section 7 of the Natural Gas Act. NEPA also requires us to discover and address concerns the public may have about proposals. This process is referred to as “scoping”. The main goal of the scoping process is to focus the analysis in the SEIS on the important environmental issues. By this Notice of Intent, the Commission staff requests public comments on the scope of the issues to address in the EIS. All comments received are considered during the preparation of the SEIS. By this notice, we are also asking Federal, state, and local agencies with jurisdiction and/or special expertise with respect to environmental issues to formally cooperate with us in the preparation of the SEIS. Agencies that would like to request cooperating status should follow the instructions for filing comments below.

In the SEIS we will discuss impacts that could occur as a result of the construction and operation of the proposed Project under these general headings:

• Geology and soils.

• Land use.

• Water resources, fisheries, and wetlands.

• Cultural resources.

• Vegetation and wildlife.

• Air quality and noise.

• Endangered and threatened species.

• Hazardous waste.

• Public safety.

We will also evaluate possible alternatives to the proposed NE-07 Project or portions of the NE-07 Project, and make recommendations on how to lessen or avoid impacts on the various resource areas.

Our independent analysis of the issues is included in the SEIS. Depending on the comments received during the scoping process, the SEIS would be published and mailed to Federal, state, and local agencies, Native American tribes, public interest groups, interested individuals, affected landowners, newspapers, libraries, and the Commission's official service list for this proceeding. A comment period would be allotted for review of the SEIS. All comments received on the SEIS would be considered before we make our recommendations to the Commission. The SEIS is used by the Commission in its decision-making process to determine whether the NE-07 Project is in the public convenience and necessity.

To ensure your comments are considered, please carefully follow the instructions in the public participation section described later in this notice.

Currently Identified Environmental Issues

We have identified several issues that we think deserve attention based on a preliminary review of the proposed facilities and the environmental information provided by the applicants. This preliminary list of issues may be changed based on your comments and our analysis.

• Water Resources.

—Impact on water quality.

—Impact on wetlands.

• Endangered and Threatened Species.

—Impact on Indiana bats.

—Impact on bog turtles.

• Impacts on soils.

—Restoration of soils in agricultural areas.

—Soil compaction.

• Impacts on recreational areas.

—State and local parklands.

—Trail crossings.

—Harriman (Millennium, Columbia and Algonquin) and Sterling Forest® State Parks (Millennium and Columbia).

—Private recreation areas (golf courses, hunting clubs, etc.).

• Reliability and Safety.

—Assessment of hazards associated with natural gas pipelines.

—Assessment of hazards associated with compressor stations.

• Air Quality and Noise.

—Temporary impacts from construction of the pipeline on residences.

—Impacts of operation of the new compressor stations and compressor station additions.

• Alternatives.

—Laurel Ridge route variation for Columbia's Line A-5 Replacement Project.

—Modifications to the proposed route variations for Millennium's Phase I Project.

—Alternative locations for Algonquin's proposed new Oxford CS.

Public Participation

You can make a difference by providing us with your specific comments or concerns about the NE-07 Project. By becoming a commentor, your concerns may be addressed in the SEIS and considered by the Commission. You should focus on the potential environmental effects of the proposal, alternatives to the proposal (including alternative locations and routes), and measures to avoid or lessen environmental impact. The more specific your comments, the more useful they may be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference the docket number of the project about which you are commenting on the original and both copies. For these projects, please reference:

Phase I Project—CP98-150-006 and -007

Line A-5 Replacement Project—CP05-19-000

Empire Connector Project—CP05-6-000

Ramapo Expansion Project—PF06-5-000

MarketAccess Project—PF06-6-000

• Mail your comments so that they will be received in Washington, DC on or before February 10, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments, you will need to open a free account which can be created on-line.

Becoming an Intervenor

In addition to involvement in the SEIS scoping process, you may want to become an official party to the proceeding known as an “intervenor”. However, there is no procedure for parties to become interveners during the pre-filing process. You may request intervener status after Algonquin and Iroquois file their formal certificate applications with the Commission and are assigned “CP” docket numbers.

Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214, see Appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Environmental Mailing List

If you do not want to send comments at this time, but still want to remain on our mailing list, please return the attached Mailing List Retention Form (Appendix 3). If you do not return the form, you will be taken off the mailing list.

Additional Information

Additional information about the Project is available from the Commission's Office of External Affairs, at 1-866-208-FERC or on the FERC Internet website (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact 1-202-502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-486 Filed 1-18-06; 8:45 am]

BILLING CODE 6717-01-P